FEDERAL COMMUNICATIONS COMMISSION

47 CFR Part 32

[WC Docket No. 02-269; CC Docket No. 00-199; CC Docket No. 80-286; CC Docket No. 99-301; FCC 03-325]

Federal-State Joint Conference on Accounting Issues

AGENCY: Federal Communications Commission.

ACTION: Final rule; delay of effective date.

SUMMARY: This document further delays the implementation of four previously adopted accounting and reporting rule changes from January 1, 2004 through June 30, 2004. The Commission extends the delay of implementation in order to allow time for receipt and consideration of comments in response to recommendations by the Federal-State Joint Conference on Accounting Issues (Joint Conference).

DATES: The effective date for amendments to 47 CFR 32.5200, 32.6562 and 32.6620 published at 67 FR 5670, February 6, 2002, and delayed at 68 FR 38641, June 30, 2003, is further delayed through June 30, 2004.

FOR FURTHER INFORMATION CONTACT: Jane E. Jackson, Associate Chief, Wireline Competition Bureau, (202) 418-1500.

SUPPLEMENTARY INFORMATION: This is a summary of the Commission's Order adopted on December 17, 2003, and released on December 23, 2003. The full text of the document is available for public inspection and copying during regular business hours at the FCC Reference Information Center, Portals II, 445 12th Street, SW., Room CY-A257, Washington, DC 20554. This document may also be purchased from the Commission's duplicating contractor, Qualex International, Portals II, 445 12th Street, SW., Room CY-B402, Washington, DC 20554, telephone (202) 863-2893, facsimile (202) 863-2898, e-mail qualexint@aol.com.

Synopsis of Order

On November 12, 2002, the Commission released an order, 67 FR 77432, December 18, 2002, delaying until July 1, 2003 the implementation of four accounting and reporting requirement rule modifications previously adopted by the Commission as part of its biennial review of accounting requirements and Automated Reporting Management System (ARMIS) reporting requirements, Report and Order, 67 FR 5670, February 6, 2002. On June 24, 2003, the Commission released another order, 68 FR 38641, June 30, 2003, further delaying implementation until January 1, 2004. The Commission deferred the implementation of these four accounting and reporting requirement rule modifications in order to allow the Federal-State Joint Conference on Accounting Issues time to consider these and other accounting issues in formulating their recommendations to the Commission. These accounting and reporting rule changes are as follows: (1) Consolidation of Accounts 6621 through 6623 into Account 6620, with sub-accounts for wholesale and retail; (2) consolidation of Account 5230, Directory revenue, into Account 5200, Miscellaneous revenue; (3) consolidation of the depreciation and amortization expense accounts (Accounts 6561 through 6565) into Account 6562, Depreciation and amortization expenses; and (4) revised “Loop Sheath Kilometers” data collection in Table II of ARMIS Report 43-07.

On October 9, 2003, the Joint Conference submitted the result of a year-long study of the Commission's accounting rules and on-going proceedings related to the Commission's accounting requirements. The Joint Conference makes several recommendations that directly relate to the four accounting rule modifications that are scheduled to go into effect on January 1, 2004. Here, the Commission extends through June 30, 2004 the Commission's current delay of the effective date of four accounting rule modifications, to allow time for receipt and consideration of comments in response to the Joint Conference's recommendations.

Federal Communications Commission
William F. Caton,
Deputy Secretary.

[FR Doc. 03-32149 Filed 12-30-03; 8:45 am]

BILLING CODE 6712-07-P